DEPARTMENT OF JUSTICE

Antitrust Division

Notice Pursuant to the National Cooperative Research and Production Act of 1993—Gas Utilization Research Forum (“GURF”)

Notice is hereby given that, on May 18, 1999, pursuant to section 6(a) of the National Cooperative Research and Production Act of 1993, 15 U.S.C. 4301 et seq. (“the Act”), Gas Utilization Research Forum (“GURF”) has filed written notifications simultaneously with the Attorney General and the Federal Trade Commission disclosing changes in its membership. The notifications were filed for the purpose of extending the Act's provisions limiting the recovery of antitrust plaintiffs to actual damages under specified circumstances. Specifically, Institut Francais Du Petrole (IFP), Cedex, France, has become a new member to GURF and Columbia Gas of Ohio, Columbus, OH is no longer participating in GURF.

No other changes have been made in either the membership or planned activity of the group research project. Membership in this group research project remains open, and GURF intends to file additional written notification disclosing all changes in membership. Information regarding membership in GURF may be obtained from Mark Taylor, Secretary, BC Technology, Gas Research and Technology Centre, Ashby Road, Loughborough, Leicestershire, LE11 3GR, England, Telephone (44) 1509 282773, Facsimile (44) 1509 283138.

On December 19, 1990, GURF filed its original notification pursuant to section 6(a) of the Act. The Department of Justice published a notice in the Federal Register pursuant to Section 6(b) of the Act on January 16, 1991 (56 FR 1655).

The last notification was filed with the Department on April 28, 1999. A notice was published in the Federal Register pursuant to section 6(b) of the Act on November 12, 1999 (64 FR 61666).

Constance K. Robinson,
Director of Operations, Antitrust Division.

[FR Doc. 00-23419 Filed 9-12-00; 8:45 am]

BILLING CODE 4410-11-M